DEPARTMENT OF LABOR

Employment and Training Administration

Solicitation for Grant Applications (SGA); High-Growth Job Training Initiative Grants Correction

AGENCY: Employment and Training Administration (ETA), Labor.

ACTION: Notice; correction.

SUMMARY: The Employment and Training Administration published a document in the Federal Register on September 17, 2004, concerning the availability of grant funds to address labor shortages, innovative training strategies, and other workforce challenges in the healthcare and biotechnology industries. This correction is to provide additional clarification on eligibility information and to extend the closing date to November 16, 2004.

FOR FURTHER INFORMATION CONTACT: Kevin Brumback, Grants Management Specialist, Division of Federal Assistance, (202) 693-3381.

Corrections

In the Federal Register of September 17, 2004, in FR Volume 69, Number 180: On page 56086, in the third column, is corrected to read:

B. Matching Funds: Paid employee release time will be accepted as match on a case-by-case basis where: (a) Trainees are bona-fide employees; (b) the employer counts only regular salary and wages, but not overtime, benefits, or other costs, for each trainee for time spent attending classes during working hours; and (c) the trainee remains employed with the employer for sixty days after completion of training.

On page 56087, in the third column, is corrected to read:

C. Submission Date, Times and Addresses: The closing date for receipt of applications under this announcement is November 16, 2004 at 4 p.m. Eastern Standard Time.

Signed at Washington, DC, this 28th day of October, 2004.
R. Lance Grubb,
Deputy Administrator, OFAM.

[FR Doc. 04-24424 Filed 10-29-04; 8:45 am]

BILLING CODE 4510-30-P